SMALL BUSINESS ADMINISTRATION

Region IX Regulatory Fairness Board; Public Federal Regulatory Enforcement Fairness Hearing

The U.S. Small Business Administration (SBA) Region IX Regulatory Fairness Board and the SBA Office of the National Ombudsman will hold a National Regulatory Fairness Hearing on Thursday, July 19, 2007, at 10 a.m. The forum will take place at the Chamber of Commerce of Hawaii, 1132 Bishop Street Building Conference Room, 3rd Floor, Honolulu, HI 96813. The purpose of the meeting is for Business Organizations, Trade Associations, Chambers of Commerce and related organizations serving small business concerns to report experiences regarding unfair or excessive Federal regulatory enforcement issues affecting their members.

Anyone wishing to attend or to make a presentation must contact Karen Sakihama, in writing or by fax in order to be placed on the agenda. Karen Sakihama, Deputy District Director, SBA, Hawaii District Office, 300 Ala Moana Boulevard, Room 2-235, Honolulu, HI 96850, phone (808) 541-2990, Ext. 209 and fax (202) 481-2849, e-mail: Karen.sakihama@sba.gov.

For more information, see our Web site at http://www.sba.gov/ombudsman.

Matthew Teague,
Committee Management Officer.

[FR Doc. E7-13920 Filed 7-17-07; 8:45 am]

BILLING CODE 8025-01-P